DEPARTMENT OF COMMERCE

National Oceanic and Atmospheric Administration

Evaluation of State Coastal Management Program; Public Meeting; Request for Comments

AGENCY: Office for Coastal Management (OCM), National Ocean Service (NOS), National Oceanic and Atmospheric Administration (NOAA), Department of Commerce (DOC).

ACTION: Notice of public meeting; request for comments.

SUMMARY: The National Oceanic and Atmospheric Administration (NOAA), Office for Coastal Management will hold a public meeting and solicit written comments on the performance evaluation of Indiana's Lake Michigan Coastal Management Program.

DATES: NOAA will consider all written comments received by April 16, 2021. The virtual public meeting will be held on Wednesday, April 7, 2021 at 1:00 p.m. CT.

ADDRESSES: You may submit written comments on the coastal management program NOAA intends to evaluate by emailing Ralph Cantral, Senior Advisor, NOAA Office for Coastal Management at Ralph.Cantral@noaa.gov. Comments received by the Office for Coastal Management are considered part of the public record and may be publicly accessible. Any personal identifying information (e.g., name, address) submitted voluntarily by the sender may also be publicly accessible. NOAA will accept anonymous comments.

To participate in the virtual public meeting, Wednesday, April 7, 2020 at 1:00 p.m. CT, registration is required by Tuesday, April 6, 2021 at 5:00 p.m. CT.

Registration: https://docs.google.com/forms/d/e/1FAIpQLSeDWTLR8P_1V2aa2FBe7OJZxb1T_I4gpb-4TqTqhU5etIJkqA/viewform?usp=sf_link. You may participate online or by phone. If you would like to provide comment during the public meeting, please select “yes” during the online registration. The line-up of speakers will be based on your date and time of registration.

FOR FURTHER INFORMATION CONTACT: Ralph Cantral, Senior Advisor, NOAA Office for Coastal Management by phone at (301) 233-2998 or email Ralph.Cantral@noaa.gov. Copies of the previous evaluation findings and the coastal management program's 2016-2020 Assessment and Strategy may be viewed and downloaded on the internet at https://coast.noaa.gov/czm/evaluations/. A copy of the evaluation notification letter and most recent progress reports may be obtained upon request by contacting Ralph Cantral.

SUPPLEMENTARY INFORMATION: Section 312 of the Coastal Zone Management Act requires NOAA to conduct periodic evaluations of federally approved state coastal programs and national estuarine research reserves. The process includes one or more public meetings, consideration of written public comments, and consultations with interested Federal, state, and local agencies and members of the public. For the evaluation of Indiana's Lake Michigan Coastal Management Program NOAA will consider the extent to which the state has met the national objectives, adhered to the management program approved by the Secretary of Commerce, and adhered to the terms of financial assistance under the Coastal Zone Management Act. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2021-03201 Filed 2-17-21; 8:45 am]

BILLING CODE 3510-JE-P